DEPARTMENT OF COMMERCE

International Trade Administration

[A-437-804, A-471-806]

Notice of Postponement of Preliminary Determinations of Antidumping Investigations: Sulfanilic Acid from Hungary and Portugal

AGENCY: Import Administration, International Trade Administration, Department of Commerce.

EFFECTIVE DATE: February 25, 2002.

FOR FURTHER INFORMATION CONTACT: Jarrod Goldfeder (Hungary) at (202) 482-0189 or Anthony Grasso (Portugal) at (202) 482-3853, Import Administration, International Trade Administration, U.S. Department of Commerce, 14th Street and Constitution Avenue, NW, Washington, D.C. 20230.

APPLICABLE STATUTE AND REGULATIONS:

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to 19 CFR part 351 (April 2001).

POSTPONEMENT OF PRELIMINARY DETERMINATIONS:

On October 26, 2001, the Department published the initiation of the antidumping duty investigations of imports of sulfanilic acid from Hungary and Portugal. See Notice of Initiation of Antidumping Duty Investigations: Sulfanilic Acid from Hungary and Portugal, 66 FR 54214, 54218 (October 26, 2001). The notice of initiation stated that we would make our preliminary determinations for these antidumping duty investigations no later than 140 days after the date of issuance of the initiation (i.e., March 7, 2002).

On February 14, 2002, the Nation Ford Chemical Company (“the petitioner”) made a timely request pursuant to 19 CFR 351.205(e) for a 30-day postponement of the preliminary determinations, or until April 8, 2002. The petitioner requested postponement of the preliminary determinations because it believes that the Department will need additional time than allotted under the current schedule to collect from the respondents the information necessary to make accurate preliminary determinations. Additionally, the petitioner made this request for both Hungary and Portugal in order to keep both investigations on identical schedules.

For the reasons identified by the petitioner, and because there are no compelling reasons to deny the request, we are postponing the preliminary determinations under section 733(c)(1) of the Act. We will make our preliminary determinations no later than April 8, 2002.

This notice is published pursuant to sections 733(f) and 777(i) of the Act.

February 15, 2002
Faryar Shirzad,
Assistant Secretary for Import Administration.

[FR Doc. 02-4424 Filed 2-22-02; 8:45 am]

BILLING CODE 3510-DS-S